DEPARTMENT OF JUSTICE

Notice of Lodging of Consent Decree Under the Comprehensive Environmental Response, Compensation, and Liability Act

In accordance with 28 U.S.C. 50.7, notice is hereby given that on December 12, 2003, a proposed Consent Decree in United States v. William J. Gallagher, Executor of the Estate of Sara Noznesky, Civ. No. 00-5707-BWK (E.D. Pa.), was lodged with the United States District Court for the Eastern District of Pennsylvania.

The proposed consent decree would resolve the United States' claims under sections 106 and 107 of the Comprehensive Environmental Response, Compensation, and Liability Act (“CERCLA”), 42 U.S.C. 9606, 9607, against William J. Gallagher, Executor of the Estate of Sara Noznesky (“Settling Defendant”) for response costs incurred by EPA at the Kennett Square Junkyard Superfund Site (“Site”) located in Chester County, Pennsylvania. The Estate of Sara Noznesky is the current owner and operator of the Site and thus is liable under CERCLA section 107(a)(1).

EPA has thoroughly evaluated the Settling Defendant's ability to pay, and has determined that the Settling Defendant can afford to pay: (1) An initial payment of $100,000; (2) one hundred percent (100%) of the net proceeds from the sale of the Site property; and (3) fifty percent (50%) of the funds that will be generated from amended tax returns. The total settlement amount is estimated at approximately $500,000. Settling Defendant has agreed to make the above stated payments to EPA to resolve its liability for the conditions at the Site.

The Department of Justice will receive for a period of thirty (30) days from the date of this publication comments relating to the Consent Decree. Comments should be addressed to the Assistant Attorney General, Environment and Natural Resources Division, P.O. Box 7611, U.S. Department of Justice, Washington, DC 20044-7611, and should refer to United States v. William J. Gallagher, Executor of the Estate of Sara Noznesky, Civ. No. 00-5707 (E.D. Pa.), D.J. Ref. 90-11-3-07086.

The Consent Decree may be examined at the Office of the United States Attorney for the Eastern District of Pennsylvania, 615, Chestnut Street, Philadelphia, PA, 19106, and at U.S. EPA Region 3, 1650 Arch Street, Philadelphia, PA 19103-2029. During the public comment period, the Consent Decree, may also be examined on the following Department of Justice Web site, http://www.usdoj.gov/enrd/open.html. A copy of the Consent Decree may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy of the Consent Decree from the Consent Decree Library, please enclose a check in the amount of $13.00 (25 cents per page reproduction cost) payable to the U.S. Treasury.

Robert D. Brook,
Assistant Section Chief, Environmental Enforcement Section, Environment and Natural Resources Division.

[FR Doc. 03-31783 Filed 12-24-03; 8:45 am]

BILLING CODE 4410-15-M